DEPARTMENT OF HEALTH AND HUMAN SERVICES

Office of the General Counsel; Privacy Act of 1974: Revision to Existing System of Records

AGENCY: Office of the General Counsel (OGC), Office of the Secretary, HHS.

ACTION: Notice of revision to an existing system of records.

SUMMARY: In accordance with the requirements of the Privacy Act, the Department of Health and Human Services (HHS) is publishing a notice of the minor revision of an existing system of records, 09-90-0062, Administrative Claims. The revised system makes some minor changes due to the records that will be part of the Early Offers Pilot, which HHS announced in the Federal Register on September 24, 2004 (67 FR 57294).

DATES: The revision does not add routine uses to this system. This amendment will be effective without further notice on the day of its publication.

FOR FURTHER INFORMATION CONTACT: Jeffrey S. Davis, Acting Associate General Counsel, General Law Division, Office of the General Counsel, U.S. Department of Health and Human Services, Room 4760, 330 Independence Ave., SW., Washington, DC 20201. The telephone number is 202-690-0153.

SUPPLEMENTARY INFORMATION: The revised system adds a new location in the Appendix for a small subset of information contained in this system pertinent to HHS's Early Offers Pilot, which was announced in the Federal Register on September 24, 2004 (67 FR 57294). The new location is for the contractor who maintains the Early Offers Pilot records. The revised system clarifies that the existing categories of records in the system cover Early Offers Pilot records because those records are pertinent to the particular claim asserted and are relevant to the final determinations made on claims. The revised system adds the Early Offers Pilot contractor to the “Safeguards” section of the system notice. The revised system limits the existing routine uses that the agency may use for information that is gathered under the Early Offers Pilot. The revised system corrects typographical errors in the previous system notice, updates the “Retrievability” section, and updates addresses in the Appendix of the system. The revised notice also updates the notification procedures. Finally, this revised system removes the references in the “Safeguards” section and the Appendix of the system notice to the Social Security Administration (SSA) because the SSA became an independent agency in 1995 and, therefore, is no longer part of HHS. The notice is published below in its entirety, as amended.

09-90-0062

SYSTEM NAME:

Administrative Claims, HHS/OS/OGC.

SECURITY CLASSIFICATION:

None.

SYSTEM LOCATION:

See Appendix.

CATEGORIES OF INDIVIDUALS COVERED BY THE SYSTEM:

HHS employees, recipients of Federal assistance under HHS funded programs, and members of the public who have a claim against HHS or against whom HHS has a claim—Federal Torts Claims Act, Military Personnel and Civilian Employees Claims Act, Federal Claims Collection Act, Federal Medical Care Recovery Act, Act for Waiver of Overpayment of Pay.

CATEGORIES OF RECORDS IN THE SYSTEM:

Information that is pertinent to the particular claim being asserted, including accident reports, hospital records, charges for medical services, certifications of overpayment, certifications of indebtedness, audits of payroll accounts during periods of overpayments, earning and leave statements, claims officers memoranda, final determinations made on claims (including Early Offers Pilot records), identify of debtors and information pertaining to how debts arose.

AUTHORITY FOR MAINTENANCE OF THE SYSTEM:

Federal Tort Claims Act, 28 U.S.C. 261-2680, 1346(b); Waiver of Overpayment of Pay Act, 5 U.S.C. 5584; Military Personnel and Civilian Employees Claims Act, 31 U.S.C. 240-243; Federal Claims Collection Act, 31 U.S.C. 951-953; Federal Medical Care Recovery Act, 42 U.S.C. 2651-2653.

PURPOSE(S):

To adjudicate claims asserted by or against the Department.

ROUTINE USES OF RECORDS MAINTAINED IN THE SYSTEM, INCLUDING CATEGORIES OF USERS AND THE PURPOSES OF SUCH USES:

Records maintained for the Early Offers Pilot may be disclosed only for Routine Use Nos. 1 (to the extent the disclosure is to the HHS contractor who maintains the records for the Early Offers Pilot), 3 (in the event of Freedom of Information Act litigation), 5, and 13 below.

Records from this system may be disclosed as follows:

1. Federal, State, and local government agencies, private individuals, private and public hospitals, allegedly negligent parties, private attorneys, insurance companies, individual law enforcement officers, tribal officials, and other persons with relevant information for the purpose of investigating, settling, or adjudicating claims and subsequent litigation action.

2. To a congressional office from the record of an individual in response to an inquiry from the congressional office made at the request of that individual.

3. In the event of litigation where the defendant is (a) the Department, any component of the Department, or any employee of the Department in his or her official capacity; (b) the United States where the Department determines that the claim, if successful, is likely to directly affect the operations of the Department or any of its components; or (c) any Department employee in his or her individual capacity where the Justice Department has agreed to represent such employee, the Department may disclose such records as it deems desirable or necessary to the Department of Justice to enable that Department to present an effective defense, provide such disclosure is compatible with the purpose for which the records were collected.

4. In the event that a system of records maintained by this agency to carry out its functions indicates a violation or potential violation of law, whether civil, criminal or regulatory in nature, and whether arising by general statute or particular program statue, or by regulation, rule or order issued pursuant thereto, the relevant records in the system of records may be referred, as a routine use, to the appropriate agency, whether local, state, federal, or foreign, charged with the responsibility of investigating or prosecuting such violation or charged with enforcing or implementing the statute, or rule, regulation or order issued pursuant thereto.

5. In the event the Department deems it desirable or necessary, in determining whether particular records are required to be disclosed under the Freedom of Information Act, disclosure may be made to the Department of Justice for the purpose of obtaining its advice.

6. To a federal, state or local agency maintaining civil, criminal or other pertinent records, such as current licenses, if necessary to obtain a record relevant to a DHHS decision concerning the hiring or retention of an employee, the issuance of a security clearance, the letting of a contract, or the issuance of a license, grant or other benefit.

7. To a federal agency, in response to its request, in connection with the hiring or retention of an employee, the issuance of a security clearance, the reporting of an investigation of an employee, the letting of a contract, or the issuance of a license, grant, or other benefit by the requesting agency, to the extent that the record is relevant and necessary to the requesting agency's decision on the matter.

8. To the Department of Justice or other appropriate federal agencies in defending claims against the United States when the claim is based upon an individual's mental or physical condition and is alleged to have arisen because of activities of the Public Health Service in connection with such individual.

9. A record from this system may be disclosed to the following entities in order to help collect a debt owed the United States.

a. To another Federal agency so that agency can effect a salary offset;

b. To another Federal agency so that agency can effect an administrative offset under common law or under 31 U.S.C. 3716 (withholding from money payable to, or held on behalf of, the individual);

c. To the Treasury Department to request his/her mailing address under I.R.C. 6103(m)(2) in order to locate him/her or in order to have a credit report prepared;

d. To agents of the Department and to other third parties to help locate him/her in order to help collect or compromise a debt;

e. To debt collection agents under 31 U.S.C. 3718 or under common law to help collect a debt; and

f. To the Justice Department for litigation or further administrative action. Disclosure under part (d) of this use is limited to the individual's name, address, Social Security Number, and other information necessary to identify him/her. Disclosure under parts (a)-(c) and (e) is limited to those items; the amount, status, and history of the claim; and the agency or program under which the claim arose. An address obtained from IRS may be disclosed to a credit reporting agency under part (d) only for purposes of preparing a commercial credit report on the individual. Part (a) applies to claims or debts arising under or payable under the Social Security Act if and only if the employee consents in writing to the offset.

10. A record from this system may be disclosed to another federal agency that has asked the Department to effect an administrative offset, under common law or under 31 U.S.C. 3716, to help collect a debt owed the United States. Disclosure under this routine use is limited to: Name, address, Social Security Number, and other information necessary to identify the individual; information about the money payable to or held for the individual; and other information concerning the administrative offset.

11. Disclosures with regard to claims or debts arising under or payable under the Social Security Act may be made from this system to “consumer reporting agencies” as defined in the Fair Credit Reporting Act (15 U.S.C. 1681a(f)) or the Federal Claims Collection Act of 1966 (31 U.S.C. 3701(a)(3)). However, this disclosure will not be made with regard to debts from overpayments to beneficiaries under Title II (Old-Age, Survivors, and Disability Insurance) and Title XVI (Supplemental Security Income) of this Act. The purpose of this disclosure is to aid in the collection of outstanding debts owed to the Federal Government. Disclosure of records is limited to the individual's name, address, Social Security number, and other information necessary to establish the individual's identity; the amount, status, and history of the claim; and the agency or program under which the claim arose.

12. When a debt becomes legally or administratively uncollectible in whole or in part, a record may be disclosed to the Internal Revenue Service to report the written-off part as income.

13. Records may be disclosed to student volunteers, individuals working under a personal services contract, and other individuals performing functions for the Department but technically not having the status of agency employees, if they need access to the records in order to perform their assigned agency functions.

DISCLOSURE TO CONSUMER REPORTING AGENCIES:

Disclosures pursuant to 5 U.S.C. 552a(b)(12): Disclosures may be made from this system to “consumer reporting agencies” as defined in the Fair Credit Reporting Act (15 U.S.C. 1681a(f) or the Federal Claims Collections Act of 1966 (31 U.S.C. 3701(a)(3)). The purpose of this disclosure is to aid in the collection of outstanding debts owed to the Federal Government, typically, to provide an incentive for debtors to repay delinquent Federal Government debts by making these debts part of their credit records. Disclosure of records is limited to the individual's name, address, Social Security number, and other information necessary to establish the individual's identity; the amount, status, and history of the claim; and the agency or program under which the claim arose. This disclosure will be made only after the procedural requirements of 31 U.S.C. 3711(f) have been followed.

POLICIES AND PRACTICES FOR STORING, RETRIEVING, ACCESSING, RETAINING, AND DISPOSING OF RECORDS IN THE SYSTEM:

STORAGE:

Legal size files in filing cabinets.

RETRIEVABILITY:

These records are manually retrieved by name of the non-Government party, whether claimant, plaintiff, or alleged debtor. In some instances, these records are retrievable by computer using name of the party involved.

SAFEGUARDS:

Office buildings in which files are kept are locked after the close of the business day. These files are only accessible to General Counsel staff, to designated claims program specialists in the Public Health Service, and with respect to the Early Offers Pilot records, to HHS's contractor.

RETENTION AND DISPOSAL:

The records are maintained for an indefinite duration.

SYSTEM MANAGER(S) AND ADDRESS:

The agency official responsible for the system policies and practices outlined above is: The General Counsel, Department of Health and Human Services, Office of the General Counsel, Room 713F, Humphrey Building, 200 Independence Avenue, SW., Washington, DC 20201.

NOTIFICATION:

Any inquiries regarding this system of records should be addressed to the System Manager.

(These notification and access procedures are in accordance with Department Regulations (45 CFR 5b.5).)

RECORD ACCESS PROCEDURES:

Same as notification procedures. Requesters should also reasonably specify the record contents being sought. (These access procedures are in accordance with Department Regulations (45 CFR 5b.5(a)(2)), Federal Register, October 8, 1975, page 47410.)

CONTESTING RECORD PROCEDURES:

Contact the official at the address specified under System Manager(s) Address above, and reasonably identify the record, specify the information to be contested, and specify the corrective action sought, with supporting justification (i.e., how it is inaccurate, irrelevant, not timely, or incomplete). (These procedures are in accordance with Department Regulations (45 CFR 5b.7), Federal Register, October 8, 1975, page 47411.)

RECORD SOURCE CATEGORIES:

The information in this system comes from a number of sources including private individuals, private and public hospitals, doctors, law enforcement agencies and officials, private attorneys, accident reports, third parties, claimants or beneficiaries and their relatives, other Federal agencies, State and local governments, agencies and instrumentalities.

SYSTEMS EXEMPTED FROM CERTAIN PROVISIONS OF THE ACT:

None.

Appendix

Office of the General Counsel—Headquarters Offices, Department of Health and Human Services, Humphrey Building, Room 713F, 200 Independence Avenue, SW., Washington, DC 20201.

Office of the General Counsel, Regional Attorney—Region I, Department of Health and Human Services, John F. Kennedy Federal Building, Room 2250, Government Center, Boston, Massachusetts 02203.

Office of the General Counsel, Regional Attorney—Region II, Department of Health and Human Services, Jacob K. Javitz Federal Building, Room 3908, 26 Federal Plaza, New York, New York 10278.

Office of the General Counsel, Regional Attorney—Region III, Department of Health and Human Services, The Public Ledger Building, Suite 418, 150 S. Independence Mall West, Philadelphia, Pennsylvania 19106-3499.

Office of the General Counsel, Regional Attorney—Region IV, Department of Health and Human Services, Suite 5M60, 61 Forsyth Street, Atlanta, Georgia 30303.

Office of the General Counsel, Regional Attorney—Region V, Department of Health and Human Services, Suite 700, 233 North Michigan Avenue, Chicago, Illinois 60601-5519.

Office of the General Counsel, Regional Attorney—Region VI, Department of Health and Human Services, Room 1138, 1301 Young Street, Dallas, Texas 75202.

Office of the General Counsel, Regional Attorney—Region VII, Department of Health and Human Services, Room 1711, 601 East 12th Street, Kansas City, Missouri 64106.

Office of the General Counsel, Regional Attorney—Region VIII, Department of Health and Human Services, Room 300, 1961 Stout Street, Denver, Colorado 80294.

Office of the General Counsel, Regional Attorney—Region IX, Department of Health and Human Services, Room 420, 50 United Nations Plaza, San Francisco, California 94102-4912.

Office of the General Counsel, Regional Attorney—Region X, Department of Health and Human Services, Blanchard Plaza, Suite 702, 2201 Sixth Avenue, Seattle, Washington 98121-1833.

Director, Division of Public Health Service Claims, Room 17A-17, Parklawn Building, 5600 Fishers Lane, Rockville, Maryland 20857.

For records related to the Early Offers Pilot, Professor David A. Hyman, University of Illinois College of Law, 504 East Pennsylvania Avenue, Champaign, Illinois 61820-6909.

Dated: December 3, 2004.
Alex M. Azar II,
General Counsel,

[FR Doc. 04-27008 Filed 12-8-04; 8:45 am]

BILLING CODE 4190-26-M